DEPARTMENT OF HEALTH AND HUMAN SERVICES

Administration for Children and Families

Submission for OMB Review; Comment Request

Title: Computerized Support Enforcement Systems.

OMB No.: 0980-0271.

Description: The information being collected is mandated by Section 454(16) of the Social Security Act which provides for the establishment and operation by the State agency, in accordance with an initial and annually updated advance automated data processing planning document (APD) approved under section 452(d) of the title, of a statewide automated data processing and information retrieval system. The system must meet the requirements of section 454A.

In addition, Section 454A(e)(1) requires that States create a State Case Registry (SCR) within their statewide automated child support systems, to include information on IV-D cases and non-IV-D orders established or modified in the State on or after October 1, 1998. Section 454A(e)(5) requires States to regularly update their cases in the SCR. The data being collected for the APD are a combination of narrative, budgets and schedules which are used to provide funding approvals on an annual basis and to monitor and oversee system development. Child support has separated regulations under 45 CFR 307.15 related to submittal of APDs supplemental authority for enhanced funding system development and substantial penalties for non-compliance with the statutory deadline of October 1, 2000. The information collection requirements for the development and maintenance of child support enforcement automated systems are addressed in 45 CFR Part 95 and the information collection.

Respondents: Courts and State Child Support Agencies

Annual Burden Estimates
Instrument | Number of respondents | Number of responses per respondent | Average burden hours per response | Total burden hours
307.15(b)(1)(IV&V) ongoing | 1 | 4 | 10 | 40
307.5(b)(1)(IV&V) semi-annual | 7 | 25 | 16 | 224
Collection of non-IV-D data for SCR: Courts | 3,045 | 412 | 0.03 | 37,636.20
States: Transmission to the FCR | 54 | 200,000 | 0.29 | 3,132,000
Collection of Child Data for IV-D cases for SCR: Courts | 3,045 | 196 | 0.03 | 17,904.60

Estimated Total Annual Burden Hours: 3,187,804.80.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, E-mail: OIRA_SUBMISSION@OMB.EOP.GOV, Attn: Desk Officer for the Administration for Children and Families.

Robert Sargis,
Reports Clearance Officer.

[FR Doc. 2011-9423 Filed 4-18-11; 8:45 am]

BILLING CODE 4184-01-P